DEPARTMENT OF HEALTH AND HUMAN SERVICES

Agency for Healthcare Research and Quality

Supplemental Evidence and Data Request on Emergency Medical Service/911 Workforce Infection Control and Prevention Issues

AGENCY: Agency for Healthcare Research and Quality (AHRQ), HHS.

ACTION: Request for supplemental evidence and data submissions.

SUMMARY: The Agency for Healthcare Research and Quality (AHRQ) is seeking scientific information submissions from the public. Scientific information is being solicited to inform our review on Emergency Medical Service/911 Workforce Infection Control and Prevention Issues, which is currently being conducted by the AHRQ's Evidence-based Practice Centers (EPC) Program. Access to published and unpublished pertinent scientific information will improve the quality of this review.

DATES: Submission Deadline on or before January 10, 2022.

ADDRESSES:

Email submissions: epc@ahrq.hhs.gov.

Print submissions:

Mailing Address: Center for Evidence and Practice Improvement, Agency for Healthcare Research and Quality, ATTN: EPC SEADs Coordinator, 5600 Fishers Lane, Mail Stop 06E53A, Rockville, MD 20857.

Shipping Address (FedEx, UPS, etc.): Center for Evidence and Practice Improvement, Agency for Healthcare Research and Quality, ATTN: EPC SEADs Coordinator, 5600 Fishers Lane, Mail Stop 06E77D, Rockville, MD 20857.

FOR FURTHER INFORMATION CONTACT: Jenae Benns, Telephone: 301-427-1496 or Email: epc@ahrq.hhs.gov.

SUPPLEMENTARY INFORMATION: The Agency for Healthcare Research and Quality has commissioned the Evidence-based Practice Centers (EPC) Program to complete a review of the evidence for Emergency Medical Service/911 Workforce Infection Control and Prevention Issues. AHRQ is conducting this technical brief pursuant to Section 902 of the Public Health Service Act, 42 U.S.C. 299a.

The EPC Program is dedicated to identifying as many studies as possible that are relevant to the questions for each of its reviews. In order to do so, we are supplementing the usual manual and electronic database searches of the literature by requesting information from the public (e.g., details of studies conducted). We are looking for studies that report on Emergency Medical Service/911 Workforce Infection Control and Prevention Issues, including those that describe adverse events. The entire research protocol is available online at: https://effectivehealthcare.ahrq.gov/products/ems-911-workforce-infection-control/protocol.

This is to notify the public that the EPC Program would find the following information on Emergency Medical Service/911 Workforce Infection Control and Prevention Issues helpful:

A list of completed studies that your organization has sponsored for this indication. In the list, please indicate whether results are available on ClinicalTrials.gov along with the ClinicalTrials.gov trial number.

For completed studies that do not have results on ClinicalTrials.gov, a summary, including the following elements: Study number, study period, design, methodology, indication and diagnosis, proper use instructions, inclusion and exclusion criteria, primary and secondary outcomes, baseline characteristics, number of patients screened/eligible/enrolled/lost to follow-up/withdrawn/analyzed, effectiveness/efficacy, and safety results.

A list of ongoing studies that your organization has sponsored for this indication. In the list, please provide the ClinicalTrials.gov trial number or, if the trial is not registered, the protocol for the study including a study number, the study period, design, methodology, indication and diagnosis, proper use instructions, inclusion and exclusion criteria, and primary and secondary outcomes.

Description of whether the above studies constitute ALL Phase II and above clinical trials sponsored by your organization for this indication and an index outlining the relevant information in each submitted file.

Your contribution is very beneficial to the Program. Materials submitted must be publicly available or able to be made public. Materials that are considered confidential; marketing materials; study types not included in the review; or information on indications not included in the review cannot be used by the EPC Program. This is a voluntary request for information, and all costs for complying with this request must be borne by the submitter.

The draft of this review will be posted on AHRQ's EPC Program website and available for public comment for a period of 4 weeks. If you would like to be notified when the draft is posted, please sign up for the email list at: https://www.effectivehealthcare.ahrq.gov/email-updates.

The technical brief will answer the following questions. This information is provided as background. AHRQ is not requesting that the public provide answers to these questions.

Guiding Questions

1. What are the characteristics, incidence, prevalence, and severity of occupationally-acquired exposures to infectious diseases for the EMS/911 workforce?

a. How do the incidence, prevalence, and severity of exposures vary by demographic characteristics (e.g., age, sex, race, ethnicity) of the workforce?

b. How do the incidence, prevalence, and severity of exposures vary by workforce characteristics (e.g., training, experience, level of practice, geographic region)?

2. What are the characteristics and reported effectiveness (i.e., benefits and harms) in studies of EMS/911 workforce practices to prevent infectious diseases?

a. How do workforce practices to prevent infectious diseases vary by demographic characteristics (e.g., age, sex, race, ethnicity)?

b. How do workforce practices to prevent infectious diseases vary by workforce characteristics (e.g., training, experience, geographic region etc.)?

c. How do workforce practices to prevent infectious diseases vary by practice characteristics (e.g., training, personal protective equipment (PPE), personnel, and budget requirements)?

d. What is the reported effectiveness (i.e. benefits and harms) in studies of EMS/911 workforce practices to prevent infectious diseases? (Outcomes of interest include but are not limited to, incidence, prevalence, duration, severity, missed work, healthcare utilization, separation from the workforce, disability, and death from infections.)

3. What are the characteristics and reported effectiveness (i.e., benefits and harms) in studies of EMS/911 workforce practices to recognize and control (e.g., chemoprophylaxis, but excluding treatment) infectious diseases?

a. How do workforce practices to recognize and control infectious diseases vary by demographic characteristics (e.g., age, sex, race, ethnicity) of the EMS/911 workforce?

b. How do workforce practices to recognize and control infectious diseases vary by workforce characteristics (e.g., training, experience, level of practice, geographic region)?

c. How do workforce practices to recognize and control infectious diseases vary by infection recognition and control practice characteristics (e.g., training, PPE, personnel, and budget requirements)?

d. What is the reported effectiveness (i.e., benefits and harms) in studies of EMS/911 workforce practices to recognize and control infectious disease? (Outcomes of interest include but are not limited to, incidence, prevalence, duration, severity, missed work, healthcare utilization, separation from the workforce, disability, and death from infections.)

4. What are the context and implementation factors of studies with effective EMS/911 workforce practices to prevent, recognize and treat occupationally-acquired infectious diseases? This description might include distinguishing factors such as workforce training, surveillance, protective equipment, pre- and post-exposure prophylaxis, occupational health services, preparedness for emerging infectious diseases, and program funding.

5. What future research is needed to close existing evidence gaps regarding preventing, recognizing, and treating occupationally-acquired infectious diseases in the EMS/911 workforce?

PICOTS (Populations, Interventions, Comparators, Outcomes, Timing, and Settings)
| Inclusion criteria | Exclusion criteria
Population | • Emergency medical service workforce including 911 dispatchers exposed to or at risk of exposure to an occupationally-acquired infectious disease as contact exposure, respiratory exposure, or blood-borne exposure.* | • Fire fighters and police personnel not involved in medical care.
Intervention | • One or more of the following types of interventions: | • NA.
| ○ Training or education
| ○ PPE protocols
| ○ Personnel policies
| ○ Budget allocations
| ○ Vaccines
| ○ Equipment
Comparison | • Any comparison group (for studies that evaluate the effectiveness of an EMS/911 workforce practice) | • Studies without a comparison group (for studies that evaluate the effectiveness of an EMS/911 workforce practice).
Outcomes | • Incidence | • NA.
| • Prevalence
| • Duration
| • Severity
| • Missed work
| • Healthcare utilization
| • Separation from the workforce
| • Disability
| • Death from infections
Timing | • Published after 2006 and includes data after 2006
Setting | • Conducted in the United States | • Military exercises and drills. • Live evacuations from another country.
Study design | • Experimental and non-experimental studies with comparison groups, including pre-post studies • Relevant systematic reviews. | • No original data (Narrative reviews, commentaries, simulation studies).
* Organisms of interest included but are not limited to SARS-COV2, influenza, tuberculosis, HIV, and Hepatitis B and C.

Dated: December 3, 2021.
Marquita Cullom,
Associate Director.

[FR Doc. 2021-26630 Filed 12-8-21; 8:45 am]

BILLING CODE 4160-90-P